DEPARTMENT OF HEALTH AND HUMAN SERVICES

National Institutes of Health

National Center for Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Special Emphasis Panel, Loan Repayment Program.

Date: May 2, 2002.

Time: 1 p.m. to Adjournment.

Agenda: To review and evaluate grant applications.

Place: Office of Review, National Center for Research Resources, 6705 Rockledge Drive, Bethesda, MD 20892. (Telephone Conference Call).

Contact Person: Mohan Viswanathan, PhD, Scientific Review Administrator, National Center for Research Resources, Office of Review, 6705 Rockledge Drive, Suite 6018, MSC 7965, Bethesda, MD 20892. 301-435-0829. viswanathanm@ncrr.nih.gov.

Name of Committee: National Center for Research Resources Special Emphasis Panel, Research Infrastructure.

Date: June 5-6, 2002.

Time: June 5, 2002, 8 a.m. to adjournment.

Agenda: To review and evaluate grant applications.

Place: Marriott Hotels Bethesda, 5151 Pooks Hill Road, Bethesda, MD 20817.

Contact Person: Sheryl K. Brining, PhD, Scientific Review Administrator, Office of Review, National Center for Research Resources, National Institutes of Health, One Rockledge Center, MSC 7965, 6705 Rockledge Drive, Suite 6018, Bethesda, MD 20892. 301-435-0809. brinings@ncrr.nih.gov.

Name of Committee: National Center for Research Resources Special Emphasis Panel, Clinical Research.

Date: June 7, 2002.

Time: 8 a.m. to adjournment.

Agenda: To review and evaluate grant applications.

Place: Holiday Inn—Chevy Chase, 5520 Wisconsin Avenue, Chevy Chase, MD 20815.

Contact Person: Mohan Viswanathan, PhD, Scientific Review Administrator, National Center for Research Resources, Office of Review, 6705 Rockledge Drive, Suite 6018, MSC 7965, Bethesda, MD 20892. 301-435-0829. viswanathanm@ncrr.nih.gov.

Name of Committee: National Center for Research Resources Special Emphasis Panel, Research Infrastructure.

Date: June 12-13, 2002.

Time: June 12, 2002 8 a.m. to adjournment.

Agenda: To review and evaluate grant applications.

Place: Marriott Hotels Bethesda, 5151 Pooks Hill Road, Bethesda, MD 20817.

Contact Person: Sheryl K. Brining, PhD, Scientific Review Administrator, Office of Review, National Center for Research Resources, National Institutes of Health, One Rockledge Center, MSC 7965, 6705 Rockledge Drive, Suite 6018, Bethesda, MD 20892. 301-435-0809. brinings@ncrr.nih.gov.

Name of Committee: National Center for Research Resources Special Emphasis Panel, Research Infrastructure.

Date: June 19-20, 2002.

Time: June 19, 2002, 8 a.m. to adjournment.

Agenda: To review and evaluate grant applications.

Place: Marriott Hotels Bethesda, 5151 Pooks Hill Road, Bethesda, MD 20817.

Contact Person: Sheryl K. Brining, PhD, Scientific Review Administrator, Office of Review, National Center for Research Resources, National Institutes of Health, One Rockledge Center, MSC 7965, 6705 Rockledge Drive, Suite 6018, Bethesda, MD 20892. 301-435-0809. brinings@ncrr.nih.gov.

(Catalogue of Federal Domestic Assistance Program Nos. 93.306, Comparative Medicine, 93.306; 93.333, Clinical Research, 93.333; 93.371, Biomedical Technology; 93.389, Research Infrastructure, National Institutes of Health, HHS)

Dated: April 9, 2002.
LaVerne Y. Stringfield,
Director, Office of Federal Advisory Committee Policy.

[FR Doc. 02-9450 Filed 4-17-02; 8:45 am]

BILLING CODE 4140-01-M